COUNCIL ON ENVIRONMENTAL QUALITY

Comment Request; Notice of Public Meeting

AGENCY: Council of Environmental Quality.

ACTION: Request for comments and notice of public meeting.

SUMMARY: The Council on Environmental Quality (CEQ) regulations for implementation of the National Environmental Policy Act (NEPA) includes procedures for referring to CEQ federal interagency disagreements concerning proposed major federal actions that might cause unsatisfactory environmental effects (40 CFR part 1504).

On October 16, 2001 CEQ received a referral from the Department of Commerce National Oceanic and Atmospheric Administration (NOAA) regarding the Department of the Army Corps of Engineers (COE) Final Supplement III to the Final Environmental Impact Statement (FEIS) for the Manteo (Shallowbag) Bay Project (MSBP) located in Dare County, North Carolina. The referral letter from NOAA stated in part:

The selected alternative identifies construction of a dual jetty system and channel deepening from the present 14 feet to a design depth of 20 feet, to improve navigation at Oregon Inlet. The project would be built on the dynamic barrier islands of the Outer Banks. NOAA strongly supports the goal of providing safe navigation for the commercial and recreational fishing vessels using Oregon Inlet. However, we believe there are alternatives that can achieve this goal in an environmentally acceptable manner. Accordingly, NOAA is compelled to disagree with the COE's selected alternative of jetty construction because it would cause unacceptable environmental harm to commercial and recreational fishery resources.

The COE responded to the referral with a cover letter dated November 13, 2001 and five accompanying documents:

• “Literature Review for the Assessment of Larval Fish and Shellfish Movement through Oregon Inlet and the Potential Effects of Inlet Stabilization by Jetties” (July 1980)

• “Oregon Inlet Larval Transport Sensitivity Study” (October 1980)

• Correspondence from David R. Colby, Fishery Biologist, National Marine Fisheries Center, Beaufort, NC (May 1980)

• “Larval Fish and Shellfish Transport through Inlets” (1988)

• “A Brief Review of Flow Circulation in the Vicinity of Natural and Jettied Inlets: Tentative Observations on Implications for Larval Transport at Oregon Inlet, NC”

The COE maintained in the cover letter that their accompanying documents fully address the referral issues elevated by NOAA.

CEQ invites written comments on the issues raised by NOAA. We also intend to hold a public meeting at 7 pm on December 12 to take comment on the issues raised by the referral.

DATES: We will accept written comments until January 18, 2002. The public meeting date and time is December 12, 2001, at 7 p.m.

ADDRESSES: Because of restrictions related to security within the Executive Office of the President, we cannot receive comments via U.S. mail or any other mail delivery system. You may send comments by electronic mail (e-mail) to ceqreferral@ceq.eop.gov or you may fax comments to the attention of Bill Perhach at (202) 456-0753. If a commentator does not have access to e-mail or fax to transmit comments, please call Dinah Bear, General Counsel, at (202) 395-7421 to arrange for an alternative system. The public meeting location is the Dare County Administrative Annex, 204 Ananias Street, Manteo, North Carolina.

FOR FURTHER INFORMATION CONTACT: Interested parties can review relevant documents at our website at http://www.whitehouse.gov/ceq/referrals or call Bill Perhach at (202) 395-0826 to arrange for transmittal of documents.

SUPPLEMENTARY INFORMATION:

I. Abstract/The Referral Process

One of the duties and functions of CEQ is to review and appraise the various programs and activities of the Federal Government in light of the policy set forth in title I of the National Environmental Policy Act (NEPA) for the purpose of determining the extent to which such programs and activities are contributing to the achievement of such policy, and to make recommendations to the President with respect thereto. 42 U.S.C. 4344(3). The CEQ referral process permits federal agencies to bring to CEQ interagency disagreements concerning proposed major federal actions that might cause unsatisfactory environmental effects. Under CEQ regulations, 40 CFR part 1504, any federal department or agency may refer a proposed major federal action to CEQ no less than 25 days after the final Environmental Impact Statement (EIS) has been made available to the public commenting agencies, and the Environmental Protection Agency. A federal agency that intends to refer a proposal to CEQ must first notify the lead agency of its intentions at the earliest possible time. If the issues are not resolved between the agencies after publication of the final EIS, and the agency wishes to refer the proposal to CEQ, the referring agency must send a letter and a statement to CEQ and the lead agency and request that no action be taken to implement the proposal until CEQ acts upon the referral. The statement accompanying the referral letter must: (1) Identify the material facts in the controversy; (2) identify environmental policies or requirements that would be violated by the proposal; (3) present the reasons why the referring agency believes the proposal is environmentally unsatisfactory; (4) contain a finding that the issue raised is of national importance; (5) review the steps taken by the referring agency to resolve the matter with the lead agency prior to referral; and (6) offer the referring agency's recommendations in regard to the proposed action. The lead agency for the proposal then has 25 days to respond to the referring agency's letter and statement. Interested parties, both in and outside of government, may deliver written views regarding the referral to CEQ. Within 25 days of the last agency action regarding the referral, CEQ may take one of seven actions:

(1) Conclude that the process of referral and response has successfully resolved the problem.

(2) Initiate discussions with the agencies with the objective of mediation with referring and lead agencies.

(3) Hold public meetings or hearings to obtain additional views and information.

(4) Determine that the issue is not one of national importance and request the referring and lead agencies to pursue their decision process.

(5) Determine that the issues should be further negotiated by the referring and lead agencies and is not appropriate for Council consideration until one or more heads of agencies report to the Council that the agencies' disagreements are irreconcilable.

(6) Publish its findings and recommendations (including where appropriate a finding that the submitted evidence does not support the position of an agency).

(7) When appropriate, submit the referral and response together with the Council's recommendation to the President for action. 40 CFR 1504.3(f). Initiation of mediation, public hearings or meetings, or a determination of further negotiation must be completed by the Council within 60 days of the Council's action under 40 CFR 1504.3(f).

II. Request for Comments

Written comments on the issues raised by NOAA in their referral are requested by January 18, 2002.

Dated: November 27, 2001.
James L. Connaughton,
Chairman, Council on Environmental Quality.

[FR Doc. 01-29801 Filed 11-29-01; 8:45 am]

BILLING CODE 3125-01-P